DEPARTMENT OF DEFENSE

Office of the Secretary

32 CFR Part 199

[0720-AA59]

Enrollment of Certain Family Members of E-4 and Below Into TRICARE Prime

AGENCY: Office of the Secretary, DoD.

ACTION: Final rule.

SUMMARY: This final rule provides for the enrollment of certain family members of E-4 and below in TRICARE Prime. Sponsors with non-enrolled family members will be automatically referred to the local TRICARE Service Center for enrollment. They will be given the opportunity to select or be assigned a primary care manager, or to refuse enrollment into TRICARE Prime. This enrollment may be terminated at any time and these family members may re-enroll at any time.

EFFECTIVE DATE: February 12, 2002.

ADDRESSES: TRICARE Management Activity (TMA), Program Operations Directorate, 5111 Leesburg Pike, Suite 810, Falls Church, VA 22041-3206.

FOR FURTHER INFORMATION CONTACT: Mr. Duaine Goodno, Office of the Assistant Secretary of Defense (Health Affairs)/TRICARE Management Activity, telephone (703) 681-0039.

Questions regarding payment of specific claims under the CHAMPUS allowable charge method should be addressed to the appropriate TRICARE/CHAMPUS contractor.

SUPPLEMENTARY INFORMATION:

I. Overview of the Rule

This final rule implements section 712 of the National Defense Authorization Act for Fiscal Year 1999 which modified chapter 55 of title 10, United States Code by adding a new section 1097a which provides for automatic TRICARE Prime enrollment for active duty families of E-4 and below in certain circumstances. Owing to the small number of family members of E-4 and below who are not already enrolled in TRICARE Prime, and the nature of TRICARE Prime enrollment, the Department will send an enrollment letter to all sponsors with non-enrolled family members. Sponsors with non-enrolled family members will be automatically referred to the local TRICARE Service Center for enrollment. They will be given the opportunity to select or be assigned a primary care manager, or to refuse enrollment into TRICARE Prime. The choice of whether to remain enrolled in TRICARE Prime, or to decline enrollment to participate in TRICARE Extra or Standard remains completely voluntary. They may also re-enroll at any time. The one year lock-out provision for early disenrollment will not apply to any family member of E-4 and below regardless of how or when they were enrolled.

Beneficiaries who are enrolled into TRICARE Prime will receive official notification of their enrollment in writing such as a letter with beneficiary card. For those who remain eligible for TRICARE Prime enrollment, the sponsor will be sent a written notification of the pending expiration and renewal of the TRICARE Prime enrollment. TRICARE Prime enrollments shall be automatically renewed upon the expiration of the enrollment unless the renewal is declined by the sponsor.

II. Review of Comments

The interim final rule was published in the Federal Register on June 28, 2000 (65 FR 39804). We received one comment from a beneficiary group who felt that the intent of the program reflects a paternalistic attitude indicating junior enlisted family members lack the capacity to make a selection of health care benefits that is in their best interest. They contend that proper education concerning the TRICARE benefit would be a more effective method to assure beneficiaries that they have made a proper selection of health care services. They also recommend that we design a mechanism whereby the beneficiary acknowledges enrollment in the program such as an enrollment form as is required today. They are particularly concerned with the transient nature of the military community and the potential of forcing families into high Point of Service charges.

Response: Based on the above comments, the Department will focus on marketing this program to this beneficiary population. An enrollment form will continue to be required of these beneficiaries which will document the fact that they accept the TRICARE Prime rules and it will allow them to provide their primary care manager preferences.

III. Rulemaking Procedures

Executive Order 12866 requires certain regulatory assessments for any significant regulatory action, defined as one which would result in an annual effect on the economy of $100 million or more, or have other substantial impacts.

The Regulatory Flexibility Act (RFA) requires that each Federal agency prepare, and make available for public comment, a regulatory flexibility analysis when the agency issues a regulation which would have a significant impact on a substantial number of small entities.

This rule has been designated as significant and has been reviewed by the Office Management and Budget as required under the provisions of Executive Order 12866.

The final rule will not impose additional information collection requirements on the public under the Paperwork Reduction Act of 1995 (44 U.S.C. Chapter 55).

This rule is being issued as a final rule.

List of Subjects in 32 CFR Part 199

Administrative practice and procedure, Claims, Health care, Health insurance, Individuals with disabilities, Military personnel.

Accordingly, 32 CFR part 199 is amended as follows:

PART 199—[AMENDED]

1. The authority citation for Part 199 continues to read as follows:

Authority: 5 U.S.C. 301; 10 U.S.C. chapter 55.

2. Section 199.17 is amended by revising paragraphs (b)(3), (c)(2)(i), (n)(1) and (o)(4) to read as follows:

§ 199.17 TRICARE program.

* * * * *

(b) * * *

(3) Automatic enrollment of certain dependents: Under 10 U.S.C. 1097a, in the case of dependents of active duty members in the grade of E-1 to E-4, such dependents who reside in a catchment area of a military treatment facility shall be enrolled in TRICARE Prime consistent with procedures established under paragraph (o)(7) of this section. The enrollment of a dependent of the member may be terminated by the member, dependent or other responsible individual at any time.

(c) * * *

(2) * * *

(i) Dependents of active duty members are eligible to enroll in Prime. After all active duty members are enrolled, those dependents of active duty members in the grade of E-1 to E-4 will have second priority and all other dependents of active duty members will have third priority.

* * * * *

(n) * * *

(1) Primary care manager. (i) All active duty members and Prime enrollees will be assigned or allowed to select a primary care manager pursuant to a system established by the MTF Commander or other authorized official, and consistent with the access standards in paragraph (p)(5)(i) of this section. The primary care manager may be an individual, physician, a group practice, a clinic, a treatment site, or other designation. The primary care manager may be part of the MTF or the Prime civilian provider network. The enrollee will be given the opportunity to register a preference for primary care manager from a list of choices provided by the MTF Commander. This preference will be entered on a TRICARE Prime enrollment form or similar document. Preference requests will be honored subject to availability, under the MTF beneficiary category priority system and other operational requirements established by the commander and other authorized person. MTF PCM nonavailability may be a condition of assignment to a civilian provider network PCM.

(ii) Prime enrollees who are dependents of active duty members in pay grades E-1 through E-4 shall have priority over other active duty dependents for enrollment with MTF PCMs, subject to MTF capacity.

* * * * *

(o) * * *

(4) Voluntary disenrollment. Any non-active duty beneficiary may disenroll at any time. Disenrollment will take effect in accordance with administrative procedures established by the Assistant Secretary of Defense (Health Affairs). Beneficiaries who disenroll prior to their annual enrollment renewal date will not be eligible to reenroll in Prime for a one-year period from the effective date of the disenrollment. This one-year exclusion may be waived by the Assistant Secretary of Defense (Health Affairs) based on extraordinary circumstances. This one-year period does not apply to any dependent whose sponsor is in the grade of E-1 to E-4.

* * * * *

Dated: January 31, 2002.
L.M. Bynum,
Alternate Federal Register Notice Liaison Officer, Department of Defense.

[FR Doc. 02-2767 Filed 2-11-02; 8:45 am]

BILLING CODE 5001-08-M